FEDERAL COMMUNICATIONS COMMISSION

47 CFR Part 12

[PS Docket Nos. 13-75 and 11-60; FCC 13-158]

Improving 9-1-1 Reliability; Reliability and Continuity of Communications Networks, Including Broadband Technologies

AGENCY: Federal Communications Commission.

ACTION: Correcting amendment.

SUMMARY: The Federal Communications Commission (Commission) published a document in the Federal Register at 79 FR 3123, January 17, 2014 announcing the effective dates of rules requiring 911 communications providers to take reasonable measures to provide reliable service, as evidenced by an annual certification. That document erroneously stated the date of an initial reliability certification for covered 911 service providers. This document corrects the date of the initial certification.

DATES: This correcting amendment is effective February 27, 2015. An initial certification will be due October 15, 2015.

FOR FURTHER INFORMATION CONTACT: Eric P. Schmidt, Attorney Advisor, Public Safety and Homeland Security Bureau, (202) 418-1214 or eric.schmidt@fcc.gov.

SUPPLEMENTARY INFORMATION: The document published by the Commission in the Federal Register at 79 FR 3123, January 17, 2014, correctly noted that 47 CFR 12.4(c) and (d)(1), which pertain to annual and initial certifications, contain information collection requirements that had not been approved by the Office of Management and Budget (OMB) and would not take effect until such approval was announced in the Federal Register. However, the document erroneously stated that an initial certification pursuant to 47 CFR 12.4(d)(1) would be due “[o]ne year after February 18, 2014,” rather than one year after OMB approval of the associated information collection. In the Federal Register at 79 FR 61785, October 15, 2014, the Commission announced that OMB has approved the information collection for a period of three years and issued Control Number 3060-1202. Accordingly, 47 CFR 12.4(d)(1) became effective October 15, 2014, and an initial certification will be due October 15, 2015.

List of Subjects in 47 CFR Part 12

Certification, Telecommunications.

Accordingly, 47 CFR part 12 is corrected by making the following correcting amendments:

PART 12—RESILIENCY, REDUNDANCY AND RELIABILITY OF COMMUNICATIONS

1. The authority citation for part 12 continues to read as follows:

Authority: Sections 1, 4(i), 4(j), 4(o), 5(c), 218, 219, 301, 303(g), 303(j), 303(r), 332, 403, 621(b)(3), and 621(d) of the Communications Act of 1934, as amended, 47 U.S.C. 151, 154(i), 154(j), 154(o), 155(c), 218, 219, 301, 303(g), 303(j), 303(r), 332, 403, 621(b)(3), and 621(d), unless otherwise noted

2. Amend § 12.4 by revising the first sentence in paragraph (d)(1) to read as follows:

§ 12.4 Reliability of covered 911 service providers

* * * * *

(d) * * *

(1) Initial reliability certification. One year after October 15, 2014, a certifying official of every covered 911 service provider shall certify to the Commission that it has made substantial progress toward meeting the standards of the annual reliability certification described in paragraph (c) of this section. * * *

* * * * *

Federal Communications Commission.
Marlene H. Dortch,
Secretary.

[FR Doc. 2015-03433 Filed 2-26-15; 8:45 am]

BILLING CODE 6712-01-P